SECURITIES AND EXCHANGE COMMISSION

Issuer Delisting; Notice of Application To Withdraw From Listing and Registration (Ancor Communications, Incorporated, Common Stock, Par Value $.01 per Share); File No. 1-12982

March 15, 2000.

Ancor Communications, Incorporated (“Company”), has filed an application with the Securities and Exchange Commission (“Commission”), pursuant to section 12(d) of the Securities Exchange Act of 1934 (“Act”) ¹ and Rule 12d2-2(d) ² thereunder, to withdraw the security described above (“Security”) from listing and registration on the Pacific Exchange, Inc. (“PCX” or “Exchange”).

¹ 15 U.S.C. 78l(d).

² 17 CFR 240.12d2-2(d).

In addition to being listed and registered on the PCX pursuant to section 12(b) of the Act,³ the Security has been registered pursuant to section 12(g) of the Act ⁴ and has been designated for quotation on the Nasdaq Stock Market, Inc. (“Nasdaq”). On July 27, 1999, the Security began trading on the Nasdaq National Market. In explaining its decision to withdraw its Security from listing and registration on the PCX at this time, the Company cited both the Security's limited trading on the Exchange and the better exposure and more liquid market afforded to its Security by the Nasdaq National Market.

³ 15 U.S.C. 78l(b).

⁴ 15 U.S.C. 78l(g).

The Company has stated that it has complied with the Rules of the PCX governing the withdrawal of its Security from listing and registration on the PCX and that the Exchange in turn has indicated that it will not oppose such withdrawal.

The Company's application relates solely to the withdrawal of the Security from listing and registration on the PCX and shall have no effect upon the Security's continued designation for quotation and trading on the Nasdaq National Market. By reason of section 12(g) of the Act ⁵ and the rules and regulations of the Commission thereunder, the Company shall continue to be obligated to file reports with the Commission required by section 13 of the Act.⁶

⁵ Id.

⁶ 15 U.S.C. 78m.

Any interested person may, on or before April 5, 2000, submit by letter to the Secretary of the Securities and Exchange Commission, 450 Fifth Street, NW, Washington, DC 20549-0609, facts bearing upon whether the application has been made in accordance with the rules of the PCX and what terms, if any, should be imposed by the Commission for the protection of investors. The Commission, based on the information submitted to it, will issue an order granting the application after the date mentioned above, unless the Commission determines to order a hearing on the matter.

For the Commission, by the Division of Market Regulation, pursuant to delegated authority.⁷

⁷ 17 CFR 200.30-3(a)(1).

Jonathan G. Katz,
Secretary.

[FR Doc. 00-6950 Filed 3-20-00; 8:45 am]

BILLING CODE 8010-01-M